DEPARTMENT OF EDUCATION

Notice Reopening the Deadline Date for the New Fiscal Year (FY) 2008 Awards; Personnel Development To Improve Services and Results for Children With Disabilities Program (CFDA No. 84.324T)

AGENCY: Office of Special Education and Rehabilitative Services, Department of Education.

ACTION: Notice reopening the deadline date for the transmittal of applications for new Fiscal Year (FY) 2008 awards.

SUMMARY: On November 27, 2007, a notice inviting applications for new FY 2008 awards under the Personnel Development to Improve Services and Results for Children with Disabilities Program was published in the Federal Register (72 FR 66143). The notice provided a deadline date and other information regarding the transmittal of applications for several FY 2008 competitions under the Personnel Development to Improve Services and Results for Children with Disabilities Program. We are reopening the competition for the Special Education Preservice Training Improvement Grants (CFDA No. 84.325T) priority. We understand that eligible applicants may have been confused about the maximum award amount for the five-year project period for this particular grant, which was mentioned in a footnote to the chart in the Award Information section, and we are re-stating it here.

Deadline for Transmittal of Applications: March 10, 2008.

Deadline for Intergovernmental Review: May 9, 2008.

Note to Applicants: The notice inviting applications for the Special Education Preservice Training Improvement Grants (84.325T) competition, published in the Federal Register on November 27, 2007 (72 FR 66143), identifies the requirements for applicants. Applicants are advised to pay close attention to the information regarding funding that appears in the first footnote for the 84.325T competition, on page 66150 of the notice. This footnote reads as follows:

“We will reject any application that exceeds $500,000 for the five years of the budget period.” The maximum award amount may not exceed $500,000 across the five-year project period.

FOR FURTHER INFORMATION CONTACT: Bonnie Jones, U.S. Department of Education, 400 Maryland Avenue, SW., room 4153, Potomac Center Plaza (PCP), Washington, DC 20202-2600. Telephone: (202) 245-7395.

If you use a Telecommunications Device for the Deaf (TDD), call the Federal Relay Service (FRS), toll-free, at 1-800-877-8339.

Alternative Format: Individuals with disabilities can obtain this document and a copy of the application package in an alternative format (e.g., Braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: February 20, 2008.
Tracy R. Justesen,
Assistant Secretary for Special Education and Rehabilitative Services.

[FR Doc. E8-3520 Filed 2-22-08; 8:45 am]

BILLING CODE 4000-01-P